CONSUMER PRODUCT SAFETY COMMISSION

Proposed Extension of Approval of Information Collection; Comment Request—Omnidirectional Citizens Band Base Station Antennas

AGENCY: Consumer Product Safety Commission.

ACTION: Notice; correction.

SUMMARY: As required by the Paperwork Reduction Act of 1995 (44 U.S.C. Chapter 35), the Consumer Product Safety Commission (CPSC) requested comments on a proposed extension of approval, for a period of 3 years from the date of approval by the Office of Management and Budget (OMB), of a collection of information from manufacturers and importers of citizens band base station antennas. The collection of information is in regulations setting forth the Safety Standard for Omnidirectional Citizens Band Base Station Antennas (16 CFR part 1204). These regulations establish testing and recordkeeping requirements for manufacturers and importers of antennas subject to the standard.

This document was published in the Federal Register of October 4, 2012, and contains an incorrect docket number.

FOR FURTHER INFORMATION CONTACT: Robert H. Squibb, Consumer Product Safety Commission, 4330 East West Highway, Bethesda, MD 20814; (301) 504-7815, or by email to: rsquibb@cpsc.gov.

Correction

(1) In the Federal Register of October 4, 2012, 77 FR 60682, in the first column, correct the docket number in the heading to read: [Docket No. CPSC-2012-0056];

(2) In the Federal Register of October 4, 2012, 77 FR 60682, in the first column, correct the first sentence of the ADDRESSES section to read: “You may submit comments, identified by Docket No. CPSC-2012-0056, by any of the following methods:”

Dated: October 12, 2012.
Todd A. Stevenson,
Secretary, Consumer Product Safety Commission.

[FR Doc. 2012-25522 Filed 10-16-12; 8:45 am]

BILLING CODE 6355-01-P